ENVIRONMENTAL PROTECTION AGENCY

40 CFR Part 80

[EPA-HQ-OAR-2012-0546; FRL-9784-4]

RIN 2060-AR43

Regulation of Fuels and Fuel Additives: 2013 Renewable Fuel Standards; Public Hearing

AGENCY: Environmental Protection Agency (EPA).

ACTION: Announcement of public hearing and extension of comment period.

SUMMARY: The EPA is announcing a public hearing to be held for the proposed rule “Regulation of Fuels and Fuel Additives: 2013 Renewable Fuel Standards,” which was published separately in the Federal Register on February 7, 2013. (78 FR 9282.) The hearing will be held in Ann Arbor, Michigan on March 8, 2013. EPA is also extending the comment period on the proposed rule to April 7, 2013. The proposed rule would amend the renewable fuel standard program regulations to establish annual percentage standards for cellulosic biofuel, biomass-based diesel, advanced biofuel, and renewable fuels that would apply to all gasoline and diesel produced in the U.S. or imported in the year 2013. The proposal is based in part on EPA's proposed projection of cellulosic biofuel production in 2013, and its proposed determination that the applicable volumes of advanced biofuel and total renewable fuel specified in the statute should not be modified in 2013.

DATES: The public hearing will be held on March 8, 2013 at the location noted below under ADDRESSES. The hearing will begin at 9 a.m. and end when all parties present who wish to speak have had an opportunity to do so. Parties wishing to testify at the hearing should notify the contact person listed under FOR FURTHER INFORMATION CONTACT by March 1, 2013. Additional information regarding the hearing appears below under SUPPLEMENTARY INFORMATION.

ADDRESSES: The hearing will be held at the following location: National Vehicle and Fuel Emissions Laboratory, 2000 Traverwood, Ann Arbor, Michigan 48105. A complete set of documents related to the proposal is available for public inspection at the EPA Docket Center, located at 1301 Constitution Avenue NW., Room 3334, Washington, DC between 8:30 a.m. and 4:30 p.m., Monday through Friday, excluding legal holidays. A reasonable fee may be charged for copying. Documents are also available through the electronic docket system at http://www.regulations.gov. (Docket ID No. EPA-HQ-OAR-2012- 0546.)

FOR FURTHER INFORMATION CONTACT: Julia MacAllister, Office of Transportation and Air Quality, Assessment and Standards Division, Environmental Protection Agency, 2000 Traverwood Drive, Ann Arbor, MI 48105; telephone number: (734) 214-4131; Fax number: (734) 214-4816; Email address: macallister.julia@epa.gov.

SUPPLEMENTARY INFORMATION: The proposal for which EPA is holding the public hearing has been published separately in the Federal Register at 78 FR 9282, February 7, 2013.

Public Hearing: The public hearing will provide interested parties the opportunity to present data, views, or arguments concerning the proposal (which can be found at http://www.epa.gov/otaq/fuels/renewablefuels/index.htm). The EPA may ask clarifying questions during the oral presentations but will not respond to the presentations at that time. Written statements and supporting information submitted during the comment period will be considered with the same weight as any oral comments and supporting information presented at the public hearing. Written comments must be received by the last day of the comment period.

The public hearing will be held on March 8, 2013 at the location noted under ADDRESSES, and will begin at 9 a.m. and end when all parties present who wish to speak have had an opportunity to do so. Those wishing to testify at the public hearing should register in advance by notifying the contact person listed under FOR FURTHER INFORMATION CONTACT by March 1, 2013 and copies of written statements will be included in the rulemaking docket.

In the NPRM, we established the deadline for comments as March 25, 2013. Because EPA is required to provide no less than 30 days for comments after the date of the hearing, we are extending the end of the comment period to April 7, 2013.

How can I get copies of this document, the proposed rule, and other related information?

The EPA has established a docket for this action under Docket ID No. EPA- HQ-OAR-2012-0546. The EPA has also developed a Web site for the RFS program, including the notice of proposed rulemaking, at the address given above. Please refer to the notice of proposed rulemaking for detailed information on accessing information related to the proposal.

Dated: February 15, 2013.
Christopher Grundler,
Director, Office of Transportation and Air Quality, Office of Air and Radiation.

[FR Doc. 2013-04003 Filed 2-20-13; 8:45 am]

BILLING CODE 6560-50-P